DEPARTMENT OF COMMERCE

National Oceanic and Atmospheric Administration

[RTID 0648-XD046]

Western Pacific Fishery Management Council; Public Meetings

AGENCY: National Marine Fisheries Service (NMFS), National Oceanic and Atmospheric Administration (NOAA), Commerce.

ACTION: Notice of public meetings.

SUMMARY: The Western Pacific Fishery Management Council (Council) will hold meetings of its Federal Data Coordination and Research Committee Technical Committee data subpanel (FDCRC-TC), Federal Data Coordination and Research Committee (FDCRC), and Non-commercial Fisheries Advisory Committee (NCFAC) to discuss and make recommendations on fishery management issues in the Western Pacific Region.

DATES: The meetings will be held between June 8 and June 13, 2023. For specific times and agendas, see SUPPLEMENTARY INFORMATION.

ADDRESSES: The FDCRC-TC, FDCRC, and NCFAC meetings will be held virtually through Webex. Instructions for connecting to the web conference and providing oral public comments will be posted on the Council website at www.wpcouncil.org. For assistance with the web conference connection, contact the Council office at (808) 522-8220.

Council address: Western Pacific Fishery Management Council, 1164 Bishop Street, Suite 1400, Honolulu, HI 96813.

FOR FURTHER INFORMATION CONTACT: Contact Kitty M. Simonds, Executive Director, Western Pacific Fishery Management Council; phone: (808) 522-8220.

SUPPLEMENTARY INFORMATION: The FDCRC-TC will meet on Thursday, June 8, 2023, from 1 p.m. to 3 p.m.; The FDCRC will meet on Monday, June 12, 2023, from 2 p.m. to 4 p.m.; and the NCFAC will meet on Tuesday, June 13, 2023, from 1 p.m. to 4 p.m. All times listed is Hawaii Standard Time.

Public Comment periods will be provided in the agendas. The order in which agenda items are addressed may change. The meetings will run as late as necessary to complete scheduled business.

Schedule and Agenda for the FDCRC-TC Meeting

Thursday, June 8, From 1 p.m. to 3 p.m. (Hawaii Standard Time)

1. Welcome and Introductions

2. Report on Previous Technical Committee Recommendations and Council Actions

3. Data Collection

A. Marine Recreational Information Program (MRIP)

i. Pacific Islands Recreational Implementation Plan

ii. Transition Plan Update

B. Territorial Creel Survey Review Report

C. Other Data Collection Updates

4. Annual Stock Assessment and Fishery Evaluation (SAFE) Reports

A. Data Issues

B. Archipelagic Plan Team Recommendations

5. Public Comment

6. Discussion and Recommendations

7. Other Business

Schedule and Agenda for the FDCRC Meeting

Monday, June 12, From 2 p.m. to 4 p.m. (Hawaii Standard Time)

1. Welcome Remarks and Introductions

2. FDCRC TC Data Collection Subpanel Meeting Report and Recommendations

3. Council Research Priorities

4. Pacific Islands Fisheries Science Center (PIFSC) Territorial Creel Survey Review

5. MRIP Regional Implementation Plan Update

6. Data Sharing Agreements

7. Public Comment

8. Discussion and Recommendations

9. Other Business

Schedule and Agenda for the NCFAC Meeting

Tuesday, June 13, 2023, From 1 p.m. to 3 p.m. (Hawaii Standard Time)

1. Welcome and Introductions

2. Review of the Last NCFAC Meeting and Recommendations

3. Non-Commercial Data Collection

A. Review of Creel Survey

B. Hawaii Small-Boat Fishery Plans

C. MRIP Regional Implementation Plan Updates

4. PIFSC Socio-Economics Projects Updates

5. Offshore Development Issues

6. Public Comment

7. Discussion and Recommendations

8. Other Business

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: May 22, 2023.
Rey Israel Marquez,
Acting Deputy Director, Office of Sustainable Fisheries, National Marine Fisheries Service.

[FR Doc. 2023-11212 Filed 5-24-23; 8:45 am]

BILLING CODE 3510-22-P